DEPARTMENT OF TRANSPORTATION

Federal Aviation Administration

14 CFR Part 97

[Docket No. 29995; Amdt. No. 1986]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendments is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082, Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM0 as an emergency action of immediate flight safety relating directly to published aeronautical charts. The circumstances which created the need for some SIAP amendments may require making them effective in less than 30 days. For the remaining SIAPs, an effective date at least 30 days after publication is provided.

Further, the FIAPs contained in this amendment are based on the criteria contained in the U.S. Standard for Terminal Instrument Procedures (RERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility act.

List of Subjects in 14 CFR Part 97

Air Traffic Control, Airports, Navigation (Air).

Issued in Washington, DC on April 14, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective May 18, 2000

Ocala, FL, Ocala Regional/Jim Taylor Field, ILS RWY 36, Orig

Ocala, FL, Ocala Regional/Jim Taylor Field, LOC RWY 36, Amdt 8a, CANCELLED

* * * Effective June 15, 2000

Oxnard, CA, Oxnard, VOR RWY 25, Amdt 9

Oxnard, CA, Oxnard, ILS RWY 25, Amdt 9

Destin, FL Destin-Fort Walton Beach, GPS RWY 14, Orig, CANCELLED

Destin, FL Destin-Fort Walton Beach, RNAV RWY 14, Orig

Destin, FL Destin-Fort Walton Beach, GPS RWY 32, Orig, CANCELLED

Destin, FL Destin-Fort Walton Beach, GPS RWY 32, Orig

Tampa, FL, Tampa Intl, GPS RWY 9, Orig, CANCELLED

Tampa, FL, Tampa Intl, RNAV RWY 9, Orig

Tampa, FL, Tampa Intl, GPS RWY 27, Orig, CANCELLED

Tampa, FL, Tampa Intl, RNAV RWY 27, Orig

Tampa, FL, Tampa Intl, GSP RWY 36R, Orig, CANCELLED

Tampa, FL, Tampa Intl, GPS RWY 36R, Orig

Chicago, IL, Chicago O'Hare Intl, VOR RWY 22R, Amdt 9

Chicago, IL, Chicago O'Hare Intl, LOC RWY 4L, Amdt 19

Chicago, IL, Chicago O'Hare Intl, NDB RWY 9R, Amdt 17

Chicago, IL, Chicago O'Hare Intl, NDB RWY 14L, Amdt 23

Chicago, IL, Chicago O'Hare Intl, NDB RWY 14R, Amdt 22

Chicago, IL, Chicago O'Hare Intl, VOR RWY 27R, Amdt 23

Chicago, IL, Chicago O'Hare Intl, ILS RWY 9L, Amdt 7

Chicago, IL, Chicago O'Hare Intl, ILS RWY 9L, Amdt 14

Chicago, IL, Chicago O'Hare Intl, ILS RWY 27R, Amdt 25

Chicago, IL, Chicago O'Hare Intl, RNAV RWY 9R, Orig

Chicago/Lake In The Hills, IL, Lake In The Hills, VOR-A, Orig, CANCELLED

Chicago/Lake In The Hills, IL, Lake In The Hills, VOR-A, Orig

Chicago/Lake In The Hills, IL, Lake In The Hills, VOR RWY 26, Amdt 3

Chicago/Lake In The Hills, IL, Lake In The Hills, GPS RWY 8, Orig, CANCELLED

Chicago/Lake In The Hills, IL, Lake In The Hills, RNAV RWY 8, Orig

Chicago/Prospect Heights/Wheeling, IL, Palwaukee Muni, VOR RWY 1, Orig-A, CANCELLED

Chicago/Prospect Heights/Wheeling, IL, Palwaukee Muni, VOR RWY 16, Orig

Chicago/Prospect Heights/Wheeling, IL, Palwaukee Muni, ILS RWY 16, Amdt 1

Chicago/Waukegan, IL, Waukegan Regional, NDB OR GPS RWY 23, Amdt 2

Chicago/Waukegan, IL, Waukegan Regional, ILS RWY 23, Amdt 4

Chicago/Waukegan, IL, Waukegan Regional, VOR/DME RNAV OR GPS RWY 5, Amdt 2

Grayslake, IL, Campbell, VOR OR GPS-A, Amdt 4, CANCELLED

Grayslake, IL, Campbell, VOR—A, Orig

Grayslake, IL, Campbell, RNAV-B, Orig

Greenwood/Wonder Lake, IL, Galt Field, VOR-A, Amdt 10

Greenwood/Wonder Lake, IL, Galt Field, RNAV-B, Orig

Burlington, IA, Burlington Regional, VOR/DME OR GPS RWY 12, Amdt 5

Burlington, IA, Burlington Regional, VOR OR GPS RWY 30, Amdt 12

Georgetown, KY, Georgetown Scott County-Marshall Field, GPS RWY 3, Orig, CANCELLED

Georgetown, KY, Georgetown Scott County-Marshall Field, RNAV RWY 3, Orig

Georgetown, KY, Georgetown Scott County-Marshall Field, GPS RWY 21, Orig, CANCELLED

Georgetown, KY, Georgetown Scott County-Marshall Field, RNAV RWY 21, Orig, CANCELLED

Alexandria, LA, Alexandria Intl, VOR OR GPS RWY 32, Amdt 1

New Orleans, LA, Lakefront, VOT/DME OR GPS RWY 36L, Amdt 8

Sanford, ME, Sanford Regional, ILS RWY 7, Amdt 3

Northhampton, MA, Northmapton, VOR/DME-B, Amdt 5

Elko, NV, Elko Muni-J.C. Harriis Field, VOR OR GPS-A, Amdt 4

Elko, NV, Elko Muni-J.C. Harriis Field, VOR/DME OR GPS-B, Amdt 3

Elko, NV, Elko Muni-J.C. Harriis Field, LDA/DME RWY 23, Amdt 5

Newark, NJ, Newark Intl, VOR/DME RWY 22R, Amdt 4

Newark, NJ, Newark Intl, VOR/DME RWY 22L, Orig

Newark, NJ, Newark Intl, ILS RWY 22R, Amdt 3

Newark, NJ, Newark Intl, ILS RWY 22L, Amdt 10

Newark, NJ, Newark Intl, GPS RWY 22L, Orig, CANCELLED

Newark, NJ, Newark Intl, RNAV RWY 22L, Orig

Newburgh, NY, Stewart Intl, ILS RWY 9, Amdt 8

Lancaster, PA, Lancaster, VOR/DME RWY 8, Amdt 4

Lancaster, PA, Lancaster, VOR/DME OR GPS RWY 26, Amdt 8

Philadelphia, PA, Northeast Philadelphia, LOC BC RWY 6, Amdt 6

Philadelphia, PA, Philadelphia International, ILS RWY 27L, Amdt 10

Murfreesboro, TN, Murfreesboro Muni, RNAV RWY 18, Orig

Murfreesboro, TN, Murfreesboro Muni, RNAV RWY 36, Orig

Dallas, TX, Dallas-Love Field, ILS RWY 13L, Amdt 30

Dallas, TX, Dallas-Love Field, ILS RWY 13R, Amdt 4

Hot Springs, VA, Ingalls Field, ILS RWY 25, Amdt 3

Fond Du Lac, WI, Fond Du Lac County, NDB OR GPS RWY 9, Amdt 6A, CANCELLED

Oshkosh, WI, Wittman Regional, LOC/DME BC RWY 18, Amdt 6

The FAA published an amendment in Docket No. 29977, Amdt. No. 1985 to Part 97 of the Federal Aviation Regulations (Vol. 65, No. 67 Page 17991; Dated Thursday, April 6, 2000), Under Section 97.27 effective June 15, 2000 which is hereby amended as follows:

Cuba, Mo, Cuba Muni, NDB or GPS RWY 18, Amdt 2, Cancelled Cuba, MO, Cuba Muni, NDB or GPS RWY 36, Amdt 2, Cancelled

* * * Effective August 10, 2000

Mobile, AL, Mobile Downtown, VOR RWY 18, Orig-A

Mobile, AL, Mobile Downtown, NDB OR GPS RWY 14, Amdt 2B

Muscle Shoals, AL, Muscle Shoals/Northwest Alabama Regional, VOR/DME or GPS RWY 11, Amdt 5D

Muscle Shoals, AL, Muscle Shoals/Northwest Alabama Regional, VOR or GPS RWY 29, Amdt 26D

Talladega, AL, Talladega Muni, GPS RWY 21, Orig-A

Tuscaloosa, AL, Tuscaloosa Muni, VOR or TACAN RWY 22, Amdt 14B

Coretz, CO, Cortez Muni, GPS RWY 21, Orig-A

Grand Junction, CO, Walker Field, GPS RWY 29, Orig-A

Alton/St. Louis, IL, St. Louis Regional, LOC BC RWY 11, Amdt 7B

Champaign/Urbana, IL, University of Illinois-Willard, LOC BC RWY 14R, Amdt 7B

Champaign/Urbana, IL, University of Illinois-Willard, GOS RWY 18, Orig-A

Chicago, IL, Chicago Midway, VOR/DME RNAV or GPS RWY 22L, Amdt 3A

Decatur, Il, Decatur, VOR RWY 18, Orig-A

Mount Vernon, VOR RWY 5, Amdt 16A

Mount Vernon, GPS RWY 5, Orig-A

Quincy, IL, Qunicy Muni Baldwin Field, NDB RWY 4, Amdt 17A

Quincy, IL, Qunicy Muni Baldwin Field, VOR/DME RNAV or GPS RWY 31, Amdt 3A

Goodland, KS, Goodland Muni, NDB or GPS RWY 30, Amdt 6B

Great Bend, KS, Great Bend Muni, NDB or GPS RWY 35, Amdt 2A

Battle Creek, MI, W.K. Kellogg, GPS RWY 5, Orig-A

Alliance, NE, Alliance Muni, VOR RWY 12, Amdt 3A

Alliance, NE, Alliance Muni, VOR RWY 30, Amdt 2A

Fremont, NE, Fremont Muni, VOR RWY 13, Orig-C

Fremont, NE, Fremont Muni, GPS RWY 13, Orig-A

Hastings, NE, Hastings Muni, VOR RWY 14, Amdt 16C

Hastings, NE, Hastings Muni, NDB RWY 14, Amdt 12C

Hastings, NE, Hastings Muni, GPS RWY 14, Orig-B

Poughkeepsie, NY, Dutchess County, VOR/DME or GPS RWY 24, Amdt 3C

Syracuse, NY, Syracuse Hancock Intl, VOR RWY 15, Amdt 22C

Syracuse, NY, Syracuse Hancock Intl, GPS RWY 33, Orig-C

Siler City, NC, Siler City Municipal, VOR or GPS-A, Amdt 2

Siler City, NC, Siler City Municipal, NDB RWY 22, Amdt 1

Siler City, NC, Siler City Municipal, RNAV RWY 22, Orig

Akron, OH, Akron-Canton Regional, VOR or GPS RWY 5, Amdt 2A

Dayton, OH, James M. Cox Dayton Intl, VOR/DME RNAV or GPS RWY 6R, Amdt 8A

Corvallis, OR, Corvallis Muni, GPS RWY 35, Orig-A

Allentown, PA, Lehigh Valley International LOC BC RWY 24, Amdt 20A

College Station, TX, Easterwood Field, NDB RWY 34, Amdt 11C

Newport News, VA, Newport News/Williamsburg Intl, NDB RWY 7, Amdt 3D

Bremerton, WA, Bremerton National, GPS RWY 1, Amdt 1A

Moses Lake, WA, Grant County Intl, VOR-3, RWY, 14L, Amdt 1A

Moses Lake, WA, Grant County Intl, VOR RWY, 22, Amdt 5A

Walla Walla, WA, Walla Walla Regional, GPS RWY 2, Orig-A

Appleton, WI, Outagamie County Regional, NDB RWY 29, Amdt 1B

Appleton, WI, Outagamie County Regional, NDB or GPS RWY 3, Amdt 14D

Jamesville, WI, Rock County, VOR/DME RWY 22, Orig-B

Jackson, WY, Jackson Hole, VOR/DME or GPS RWY 36, Amdt 4B

Laramie, WY, Laramie Regional, VOR or TACAN or GPS RWY 12, Amdt 5A

Rock Springs, WY, Rock Springs-Sweetwater Springs, VOR/DME or GPS RWY 9, Amdt 2A

[FR Doc. 00-9831 Filed 4-18-00; 8:45 am]

BILLING CODE 4910-13-M